SECURITIES AND EXCHANGE COMMISSION

[File No. 500-1]

In the Matter of Biozoom, Inc.; Order of Suspension of Trading

June 25, 2013.

It appears to the Securities and Exchange Commission that there is a lack of current and accurate information concerning the securities of Biozoom, Inc. (“Biozoom”), a Nevada corporation headquartered in Germany, trading under the symbol BIZM on the Over-the-Counter Bulletin Board (“OTCBB”). The Commission is concerned that certain Biozoom affiliates and shareholders may have unjustifiably relied upon Rule 144 of the Securities Act of 1933 (“Securities Act”) and they, Biozoom, and others may be engaged in an unlawful distribution of securities through the OTCBB.

The Commission is of the opinion that the public interest and the protection of investors require a suspension of trading in the securities of the above-listed company.

Therefore, it is ordered, pursuant to Section 12(k) of the Securities Exchange Act of 1934, that trading in the above-listed company is suspended from the period 9:30 a.m. EDT, June 25, 2013, through 11:59 p.m. EDT, on July 9, 2013.

By the Commission.
Elizabeth M. Murphy,
Secretary.

[FR Doc. 2013-15507 Filed 6-25-13; 4:15 pm]

BILLING CODE 8011-01-P